DEPARTMENT OF ENERGY

Federal Energy Regulatory Commission

[Project No. 12451-023]

SAF Hydroelectric, LLC; Notice of Application for Amendment of License and Soliciting Comments, Motions To Intervene, and Protests

October 14, 2008.

Take notice that the following hydroelectric application has been filed with the Commission and is available for public inspection:

a. Type of Application: Amendment of license to change transmission line route.

b. Project No: 12451-023.

c. Date Filed: July 14, 2008.

d. Applicant: SAF Hydroelectric, LLC.

e. Name of Project: Lower St. Anthony Falls Project.

f. Location: The project is located at the U.S. Army Corps of Engineers' Lower St. Anthony Falls Lock and Dam on the Mississippi River, in Hennepin County, Minnesota.

g. Pursuant to: Federal Power Act, 16 U.S.C. 791a—825r.

h. Applicant Contact: David W. Culligan, SAF Hydroelectric, LLC c/o Brookfield Renewable Power, 225 Greenfield Parkway, Suite 201, Liverpool, NY 13088, (315) 413-2792.

i. FERC Contact: Any questions on this notice should be addressed to Mr. Steven Sachs at (202) 502-8666.

j. Deadline for filing comments and/or motions: November 17, 2008.

All documents (original and eight copies) should be filed with: Kimberly D. Bose, Secretary, Federal Energy Regulatory Commission, 888 First Street, NE., Washington, DC 20426. Comments, protests, and interventions may be filed electronically via the Internet in lieu of paper; see 18 CFR 385.2001(a)(1)(iii) and instructions on the Commission's Web site under the “e-filing” link. The Commission strongly encourages electronic filings. Please include the project number P-12451-023 on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: SAF Hydroelectric, LLC (SAF) filed an amendment request for its license to change the project's transmission line route. SAF no longer plans to construct the 1,030-foot-long underground primary transmission line that is authorized by the license. Instead, it proposes a 13.8 kV transmission line extending from the project's switchgear to Xcel/Northern States Power Company's pole P adjacent to the powerhouse and continuing approximately 4,000 feet to the Elliot Park substation; consisting of approximately 2,000 feet of underground ducted circuit and 2,000 feet of overhead circuit. The overhead portion will be overbuilt with pole extenders attached to Xcel/Northern States Power Company's existing distribution poles. SAF is not proposing any changes to the project operation.

l. Locations of the Application: A copy of the application is available for inspection and reproduction at the Commission's Public Reference Room, located at 888 First Street, NE., Room 2A, Washington, DC 20426, or by calling (202) 502-8371. This filing may also be viewed on the Commission's Web site at http://www.ferc.gov; using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-24959 Filed 10-20-08; 8:45 am]

BILLING CODE 6717-01-P